DEPARTMENT OF HEALTH AND HUMAN SERVICES

Administration for Children and Families

Submission for OMB review; comment request

Title: Social Services Block Grant (SSBG) Post-expenditure Report.

OMB No.: 0970-0234.

Description:

Content Changes:

The 60-day Federal Register Notice published on October 22, 2010 (Federal Register Vol. 75, No. 204, pages 65352-65353) proposed to continue the use of the current post-expenditure reporting form with one change. The proposed change was a modification of the column titled, Expenditures of All Other Federal, State, and Local Funds of Part A of the form. States would have been required to report the same information as on the current OMB-approved post expenditure reporting form in a slightly different format.

The column currently requires States to provide data on the total amount of Federal, State, and local funds spent in providing each service. The proposed modification would have separated this column into two subcolumns. One subcolumn would have required States to report expenditures of Federal funds used to support each service. The second subcolumn would have required States to report expenditures of State and local funds used to support each service. The instructions for the post-expenditure reporting form would have been revised to reflect this modification.

Based on feedback from several States, it was decided not to proceed with this proposed change. Therefore, the current request seeks approval to continue using the current OMB approved post-expenditure reporting form (OMB No. 09700834)

Description:

Purpose: To request approval to: (1) Extend the collection of post-expenditure data using the current OMB approved post-expenditure reporting form (OMB No. 0970-0234) past the current expiration date of July 31, 2011; (2) request that States voluntarily use the post-expenditure reporting form to estimate expenditures and recipients, by service category, as part of the required annual intended use plan.

The Social Services Block Grant program (SSBG) provides funds to assist States in delivering critical services to vulnerable older adults; persons with disabilities; at-risk adolescents and young adults; and children and families. Funds are allocated to the States in proportion to their populations. States have substantial discretion in their use of funds and may determine what services will be provided, who will be eligible, and how funds will be distributed among the various services. State or local SSBG agencies (i.e., county, city, regional offices) may provide the services or may purchase them from qualified agencies, organizations, or individuals. States report as recipients of SSBG-funded services any individuals who receive a service funded, in whole or in part, by SSBG.

States are required to report their annual SSBG expenditures in a postexpenditure report, using the current OMB approved post-expenditure reporting form. The current form includes a yearly total of adults and children served and annual expenditures in each of 29 service categories. The annual report is to be submitted within six months of the end of the period covered by the report, and must address: (1) The number of individuals (including number of children and number of adults) who receive services paid for, in whole or in part, with Federal funds under the SSBG; (2) The amount of SSBG funds spent in providing each service; (3) The total amount of Federal, State, and local funds spent in providing each service, including SSBG funds; and (4) The method(s) by which each service is provided, showing separately the services provided by public and private agencies. These reporting requirements can be found at 45 CFR 96.74.

This request seeks approval to continue the use of the current postexpenditure reporting form with no changes. Information collected in the postexpenditure reports submitted by States is analyzed and described in an annual report on SSBG expenditures and recipients produced by the Office of community Services (OCS), Administration for children and Families (ACF). The information contained in this report is used for program planning and management. The data establish how SSBG funding is used for the provision of services in each State to each of many specific populations of needy individuals.

Federal regulation and reporting requirements for the SSBG also require each State to develop and submit an annual intended use plan that describes how the State plans to administer its SSBG funds for the coming year. This report is to be submitted 30 days prior to the start of the fiscal year (June 1 if the State operates on a July-June fiscal year, or September 1 if the State operates on a Federal fiscal year). No specific format is required for the intended use plan. The intended use of SSBG funds—including the types of activities to be supported and the categories and characteristics of individuals to be served—must be provided. States vary greatly in the information they provide and the structure of the report. States are required to submit a revised intended use plan if the planned use of SSBG funds changes during the year.

In order to provide a more accurate analysis of the extent to which funds are spent “in a manner consistent” with each of the States' plan for their use, as required by 42 USC 1397e(a), we are requesting that States voluntarily use the format of the post-expenditure reporting form to provide estimates of the amount of expenditures and the number of recipients, by service category, that the State plans to use SSBG funds to support as part of the intended use plan. Many States are already using the format of the post-expenditure reporting form as part of their intended use plan.

Respondents:

The post-expenditure reporting form and intended use plan are completed once annually by a representative of the agency that administers the Social Services Block Grant at the State level in each State.

Respondents:

State Governments

Annual Burden Estimates
Instrument | Number of respondents | Number of responses per respondent | Average burden hours per response | Total burden hours
Post-Expenditure Reporting Form | 56 | 1 | 110 | 6,160
Use of Post-Expenditure Reporting Form as Part of the Intended Use Plan | 56 | 1 | 2 | 112
Estimated Total Annual Burden Hours: |  |  |  | 6,272

Additional Information:

Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment:

OMB is required to make a decision concerning the collection of information between 30 and 60 days after publication of this document in the Federal Register. Therefore, a comment is best assured of having its full effect if OMB receives it within 30 days of publication. Written comments and recommendations for the proposed information collection should be sent directly to the following:

Office of Management and Budget, Paperwork Reduction Project, Fax: 202-395-7285, E-mail: OIRA_SUBMISSION@OMB.EOP.GOV, Attn: Desk Officer for the Administration for Children and Families.

Dated: January 31, 2011.
Robert Sargis,
Reports Clearance Officer.

[FR Doc. 2011-2555 Filed 2-7-11; 8:45 am]

BILLING CODE 4184-01-M